DEPARTMENT OF THE INTERIOR

National Park Service

Final Environmental Impact Statement; Prisoners Harbor Wetland Restoration, Santa Cruz Island, Channel Islands National Park, Santa Barbara County, CA; Notice of Approval of Record of Decision

Summary: Pursuant to § 102(2)(C) of the National Environmental Policy Act of 1969 (Pub. L. 91-190, as amended) and the regulations promulgated by the Council on Environmental Quality (40 CFR 1505.2), the Department of the Interior, National Park Service (NPS) has prepared and approved a Record of Decision for the Final Environmental Impact Statement for restoration of approximately 3 acres of coastal wetland on Santa Cruz Island, Channel Islands National Park. The requisite no-action “wait period” was initiated April 16, 2010, with the Environmental Protection Agency's Federal Register notification of the filing of the Final EIS.

Decision: As soon as practical the NPS will begin to implement restoration of palustrine wetlands and deepwater habitat at Prisoners Harbor, as well as remove a berm constricting natural flows in lower Canada del Puerto Creek, in order to reconnect the creek to its floodplain. Other project elements include removing cattle corrals and relocating a scale house to its pre-1960s location, removing eucalyptus and controlling other non-native species, and protecting archeological resources. This alternative was identified and analyzed as the agency-preferred Alternative B in the Final EIS (and includes no substantive modifications to the course of action which was described in the Draft EIS). The full range of foreseeable environmental consequences were assessed, and appropriate mitigation measures (developed in consultation with Tribal representatives and other agencies) are included in the approved plan. Both a No Action alternative and one additional “action” alternative (Alternative C, which would have restored approximately a third less wetland habitat) were also identified and analyzed. As documented in the Draft and Final EIS, the selected alternative was deemed to be the “environmentally preferred” course of action.

Copies: Interested parties desiring to review the Record of Decision may obtain a copy by contacting the Superintendent, Channel Islands National Park, 1901 Spinnaker Drive, Ventura, CA 93001 or via telephone request at (805) 658-5700.

Dated: July 13, 2010.
Patricia L. Neubacher,
Acting Regional Director, Pacific West Region.

[FR Doc. 2010-21566 Filed 8-27-10; 8:45 am]

BILLING CODE 4310-F6-P